ENVIRONMENTAL PROTECTION AGENCY

[FRL-6526-9]

Adequacy Status of Submitted State Implementation Plans for Transportation Conformity Purposes; Pennsylvania; SIP for Rate of Progress and for Attainment of the NAAQS for Ozone of the Philadelphia-Wilmington-Trenton Ozone Nonattainment Area

AGENCY: Environmental Protection Agency (EPA).

ACTION: Notice of Adequacy Status.

SUMMARY: EPA is announcing that the attainment motor vehicle emissions budgets (hereafter referred to as “budgets”) contained in the State Implementation Plan (SIP) for the Attainment of the NAAQS for Ozone Meeting the Requirements of the Alternative Ozone Attainment Demonstration Policy—Phase II for the Pennsylvania Portion of the Philadelphia-Wilmington-Trenton Ozone Nonattainment Area, submitted on April 30, 1998, are not adequate for transportation conformity purposes. We are concurrently announcing that the Rate of Progress (ROP) motor vehicle emission budgets contained in this same SIP submittal are adequate for transportation conformity purposes. On November 16, 1999, EPA announced the same decision in a Federal Register publication entitled “Adequacy Status of Submitted State Implementation Plans for Transportation Conformity Purposes: State Implementation Plan for Attainment and Maintenance of the NAAQS for Ozone—Southeastern Pennsylvania.” We are, therefore, also announcing that in a letter to the Commonwealth of Pennsylvania dated December 22, 1999, we withdrew our findings regarding the adequacy of these budgets originally made in an October 26, 1999 letter and announced in the Federal Register on November 16, 1999. In the same December 22, letter, we made new findings regarding the adequacy of these budgets. Therefore, this announcement regarding the findings made on December 22, 1999 supersedes and renders moot the announcement published on November 16, 1999 regarding the findings made on October 26, 1999.

DATES: These findings regarding the adequacy of the budgets, made in a letter dated December 22, 1999 to the Commonwealth of Pennsylvania, are effective on February 4, 2000.

FOR FURTHER INFORMATION CONTACT: Larry Budney, U.S. EPA, Region III, 1650 Arch Street, Philadelphia, PA 19103 at (215) 814-2184 or by e-mail at: budney.larry@epa.gov.

SUPPLEMENTARY INFORMATION: Throughout this document the terms “we,” “us,” or “our” refer to EPA. The word “budgets” refers to the motor vehicle emission budgets for volatile organic compounds (VOCs) and nitrogen oxides (NOx). The word “SIP” in this document refers to the Phase II State Implementation Plan submitted by the Commonwealth of Pennsylvania on April 30, 1998. This plan was submitted to demonstrate ROP in the Pennsylvania portion of the Philadelphia-Wilmington-Trenton ozone nonattainment area and to demonstrate attainment of the one-hour National Ambient Air Quality Standard (NAAQS) for ozone throughout the nonattainment area.

On March 2, 1999, the D.C. Circuit Court ruled that the budgets contained in submitted SIPs cannot be used for transportation conformity determinations until EPA has affirmatively found them adequate. As a result of our finding, the attainment budgets contained in the submitted Phase II Ozone Attainment Plan may not be used for future conformity determinations, but the ROP motor vehicle emission budgets contained in the same submittal may be used for future conformity determinations in the Pennsylvania portion of the Philadelphia-Wilmington-Trenton ozone nonattainment area.

On April 30, 1998, the Pennsylvania Department of Environmental Protection (PADEP) submitted its State Implementation Plan for the Attainment and Maintenance of the NAAQS for Ozone Meeting the Requirements of the Alternative Ozone Attainment Demonstration Policy—Phase II. The SIP contained mobile source vehicle emissions budgets both for ROP and for attainment. On August 2, 1999, the availability of the SIP and the motor vehicle emission budgets was posted on EPA's conformity WEB site for the purpose of soliciting public comment. The comment period closed on August 31, 1999, and no comments were received.

On October 26, 1999, we sent a letter to the Commonwealth of Pennsylvania which constituted final Agency actions on the adequacy of the budgets contained in the Phase II SIP submitted by Pennsylvania on April 30, 1998. Those actions were EPA's findings that the attainment budgets were not adequate and that the ROP budgets were adequate. On November 16, 1999, we published our findings that the attainment budgets were not adequate and that the ROP budgets were adequate in a Federal Register announcement entitled “Adequacy Status of Submitted State Implementation Plans for Transportation Conformity Purposes: State Implementation Plan for Attainment and Maintenance of the NAAQS for Ozone—Southeastern Pennsylvania” (64 FR 62198). As indicated in that notice, the effective date of the Agency's October 26, 1999 findings was December 1, 1999.

In a Notice of Proposed Rulemaking (NPR) published on December 16, 1999 (64 FR 70428), we proposed that additional measures are needed to support the attainment test for the Philadelphia-Wilmington-Trenton ozone nonattainment area. Pennsylvania has raised concerns that the text found in the NPR at section II.B.3, entitled Motor Vehicle Emissions Budget, may be interpreted to conclude that EPA took final Agency action in its October 26, 1999 letter to determine that additional measures to reduce emissions are required in the Philadelphia-Wilmington-Trenton area to support the attainment test. This is not the case. The action published by EPA on December 16, 1999 regarding the attainment demonstration contained in the Phase II SIP submitted by the Commonwealth on April 30, 1998 and supplemented on August 21, 1998, is a proposed action. EPA has invited comment on all matters raised in the NPR, including the need for additional measures.

We wished to clarify its intent and to address the Commonwealth's concerns. Therefore, in a letter to the Commonwealth dated December 22, 1999, we withdrew the October 26, 1999 final actions as to the adequacy of the motor vehicle emission budgets submitted by the Commonwealth in its April 30, 1998 Phase II SIP for the Philadelphia-Wilmington-Trenton nonattainment area. In the same December 22, 1999 letter, we took Agency actions on the adequacy of the budgets in Pennsylvania's Phase II SIP by finding that the attainment budgets were not adequate and that the ROP budgets were adequate. The December 22, 1999 letter also clearly indicated that it superseded any final actions which had occurred on October 26, 1999, and that the withdrawal of the findings made on October 26, 1999 was effective immediately (December 22, 1999).

As stated above, on December 22, 1999, we informed the Commonwealth of our finding that the motor vehicle emission budgets in the Phase II SIP submitted by the Commonwealth are not adequate for the purposes of transportation conformity. Among other things, the attainment budgets, when considered together with all other emission reductions, must be consistent with applicable requirements for attainment as required in 40 CFR Part 93, § 93.118(e)(4)(iv). In making our finding that the attainment budgets are not adequate, we have preliminarily determined that the submitted Phase II attainment SIP does not fully provide for attainment. This preliminary determination is not a final agency action and is rather one of the issues in our December 16, 1999 Notice of Proposed Rulemaking (64 FR 70428).

On December 22, 1999, we also informed the Commonwealth that we found the motor vehicle emission budgets in the 1999, 2002, and 2005 ROP plan adequate since they met the review criteria in 40 CFR Part 93, § 93.118(e)(4)(i) through (e)(4)(vi) of the conformity rule.

This is an announcement of adequacy findings that we already made on December 22, 1999. The effective date of these findings is February 4, 2000. These findings will also be announced on EPA's website: http://www.epa.gov/oms/traq (once there, click on the “Conformity” button, then look for “Adequacy Review of SIP Submissions for Conformity”). Transportation conformity is required by section 176(c) of the Clean Air Act. EPA's conformity rule requires that transportation plans, programs, and projects conform to SIPs and establishes the criteria and procedures for determining whether or not they do so. Conformity to a SIP means that transportation activities will not produce new air quality violations, worsen existing violations, or delay timely attainment of the NAAQS.

The criteria by which we determine whether a SIP's budgets are adequate for conformity purposes are outlined in 40 CFR 93.118(e)(4). Please note that an adequacy finding is separate from EPA's completeness finding, and separate from EPA's finding whether or not the SIP is approvable. Even if we find a budget adequate, the SIP could later be disapproved. We described our process for determining the adequacy of submitted SIP budgets in a guidance memorandum dated May 14, 1999 titled “Conformity Guidance on Implementation of March 2, 1999 Conformity Court Decision”. We followed this guidance in making our adequacy findings for the budgets contained in the “SIP for Rate of Progress Emission Reductions and for Attainment of the NAAQS for Ozone Meeting the Requirements of the Alternative Ozone Attainment Demonstration Policy—Phase II” submitted on April 30, 1998 by PADEP. You may obtain a copy of this guidance from EPA's conformity web site referred to above or by calling the contact name listed in the For Further Information Contact section of this notice.

Authority: 42 U.S.C. 7401-7671q.

Dated: January 10, 2000.
Bradley M. Campbell,
Regional Administrator, Region III.

[FR Doc. 00-1362 Filed 1-19-00; 8:45 am]

BILLIING CODE 6560-50-P